DEPARTMENT OF VETERANS AFFAIRS

[OMB Control No. 2900-0674]

Agency Information Collection Activity: Notice of Disagreement: Appeal to the Board of Veterans' Appeals

AGENCY: Board of Veterans' Appeals, Department of Veterans Affairs.

ACTION: Notice.

SUMMARY: The Board of Veterans' Appeals (Board), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. DATES: Comments must be received on or before January 30, 2026.

ADDRESSES: Comments must be submitted through www.regulations.gov.

FOR FURTHER INFORMATION CONTACT:

Program-Specific information: Michael Nanez, 202-382-2785, Michael.Nanez@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, the Board invites comments on: (1) whether the proposed collection of information is necessary for the proper performance of the Board's functions, including whether the information will have practical utility; (2) the accuracy of the Board's estimate of the burden of the proposed collection of information; (3) ways to enhance the quality, utility, and clarity of the information to be collected; and (4) ways to minimize the burden of the collection of information on respondents, including through the use of automated collection techniques or the use of other forms of information technology.

Title: Notice of Disagreement (NOD)/Appeal to the Board of Veterans' Appeals, VA Form 10182 and VA Form 9.

OMB Control Number: 2900-0674. https://www.reginfo.gov/public/do/PRASearch (Once at this link, you can enter the OMB Control Number to find the historical versions of this Information Collection).

Type of Review: Revision of a currently approved collection.

Abstract: OMB Control No. 2900-0674 was recently approved on April 30, 2025. The VA Form 10182 Decision Review Request: Board Appeal (Notice of Disagreement), which is required to initiate Board review of an appeal in the modernized review system as implemented by the Veterans Appeals Improvement and Modernization Act of 2017 (AMA), was one of the forms approved for information collection. The Board is requesting to revise the currently approved VA Form 10182, to include an additional checkbox under Part III, number 11. The proposed checkbox will state: “Check here if you want the Board to issue a decision as soon as possible, even if it is within the period to request a different review option in Part II. By checking this box, you acknowledge that once the Board issues a decision, you will not be permitted to change your Board review option.” The “Overview of Notice of Disagreement Form Sections” on page three will be amended to include further explanation of the checkbox. The Board additionally requests to remove the checkbox from Part III, number 11, which states: “Check here if you are appealing a denial of benefits by the Veterans Health Administration (VHA).” Finally, the Board seeks to amend the VA Form 10182 to clarify that selecting the Evidence Submission or Hearing with a Veterans Law Judge review option may extend the time it takes for the Board to decide an appeal; the VA Form 10182 currently states that selecting those review options will extend the time to receive a Board decision. The Board does not request to revise any of the other items included in the previously approved collection.

The Board is requesting to revise the VA Form 10182, by adding a checkbox to Part III, number 11, in response to a recent case issued by the U.S. Court of Appeals for Veterans Claims (CAVC). When appellants file a VA Form 10182, Decision Review Request: Board Appeal (Notice of Disagreement), they have the choice of three Board review options, or “dockets.” Pursuant to 38 CFR 20.202(c)(2), appellants may request to modify their Notice of Disagreement and change review options until the later of one year from the date the agency of original jurisdiction mails notice of the decision on appeal, or within 60 days of the date the Board receives the Notice of Disagreement. In Williams v. McDonough, 37 Vet. App. 305, 310-311 (2024), the CAVC interpreted 38 CFR 20.202(c)(2) as preventing the Board from issuing a decision until the period to request to change Board review options elapses. As a result, the Board has been forced to delay issuing decisions in cases that are otherwise ready for adjudication until that period elapses or sends a letter and ask appellants whether they wish to waive the remaining time, which places additional burdens on appellants and the Board.

The requested revision provides appellants with the option to request that the Board issue a decision prior to the end of the period to request to switch dockets set out in 38 CFR § 20.202(c)(2). By selecting the checkbox on the VA Form 10182, appellants can receive a decision in their appeal as soon as possible based on their place in docket order while also retaining the right to request a different Board review option up until the Board promulgates a decision on the appeal.

The Board is requesting to remove the checkbox under Part III, number 11, that states: “Check here if you are appealing a denial of benefits by the Veterans Health Administration (VHA),” because it leads to confusion with appellants and provides little benefit to the Board.

Revising the VA Form 10182 by adding a checkbox is the most Veteran-friendly approach as no new form would be required, and appellants can avoid delays resulting from the Williams decision by requesting that the Board issue a decision in their appeal using an already-familiar form. Removing the checkbox concerning denial of benefits by the VHA will eliminate the need for appellants to consider which Administration issued the decision they are appealing when completing the VA Form 10182. The explanation that selecting the Evidence Submission or Hearing review option may extend the time it takes for the Board to decide an appeal will help appellants make a fully informed decision on selecting the Board review option that is best for them.

Any appellant who files a VA Form 10182 may utilize the checkbox and review the explanation of the time required for the review options. Therefore, the estimated number of respondents and annual burden are the same estimates as those provided for the number of respondents who may utilize the VA Form 10182 Decision Review Request: Board Appeal (Notice of Disagreement). Because the Board is seeking to add a checkbox and remove a checkbox, it is estimated that a respondent's burden would be unchanged by the requested revisions. The estimates are consistent with those provided in the previously approved collection, because the requested changes to the VA Form 10182 do not add any additional burden to the processing of the form. Rather, the checkbox will eliminate the need to delay issuing decisions in appeals that are otherwise ready for adjudication and send appellants letters of clarification, thereby decreasing the overall administrative burden caused by Williams, supra.

Affected Public: Individuals and households.

Estimated Annual Burden: 55,000 hours.

Estimated Average Burden per Respondent: 30 minutes.

Frequency of Response: Once.

Estimated Number of Respondents: 110,000.

Authority: 44 U.S.C. 3501 et seq.

Dorothy Glasgow,
Acting, VA PRA Clearance Officer, Office of Information Technology, Data Governance and Analytics, Department of Veterans Affairs.

[FR Doc. 2025-21703 Filed 11-28-25; 8:45 am]

BILLING CODE 8320-01-P